DEPARTMENT OF THE INTERIOR

Geological Survey

[GX21BD239AV0100; OMB Control Number 1028-NEW]

Agency Information Collection Activities; Information Collection Through Surveys and Interviews To Evaluate and Improve the Cooperative Research Units Program Mission, Functions, and Goals

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before November 30, 2021.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Cynthia S. Loftin by email at cyndy_loftin@usgs.gov, or by telephone at (207) 581-2843. Individuals who are hearing or speech impaired may call the Federal Relay Service at 1-800-877-8339 for TTY assistance.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The USGS Cooperative Fish and Wildlife Research Units Program originated in 1935 to fill a need for qualified wildlife and fisheries professionals and provide evidence based graduate research to inform resource management. Currently the program has 40 individual Units in 38 states and formalizes relationships among a state natural resources management agency, a host university, the USGS, the USFWS, and the Wildlife Management Institute. The program's graduate education and research mission has remained largely unchanged through its tenure, yet the issues challenging fish and wildlife conservation have transformed. This raises questions about the program's support and sustainability into the future and how best to address cooperator needs.

Through focused surveys and interviews, this information collection will ask participants to evaluate their communication and relationships with individuals in the program. The data will be used to examine the structure, communication, and socio-technical connectivity using network analysis and agent based modeling. This information collection aims to improve our understanding of the Cooperative Research Units Program and how it meets its partners' needs.

Title of Collection: Information collection through surveys and interviews to improve the Cooperative Research Units Program mission, functions, and goals.

OMB Control Number: 1028-NEW.

Form Number: None.

Type of Review: New.

Respondents/Affected Public: Universities, state and tribal governments, and businesses which are direct (both formal and informal) Cooperators of the USGS Cooperative Fish and Wildlife Research Units Program.

Total Estimated Number of Annual Respondents: 1,500.

Total Estimated Number of Annual Responses: 1,500.

Estimated Completion Time per Response: 20 minutes.

Total Estimated Number of Annual Burden Hours: 500 hours.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Cynthia Loftin,
Unit Leader, Maine Cooperative Fish and Wildlife Research Unit.

[FR Doc. 2021-21358 Filed 9-30-21; 8:45 am]

BILLING CODE 4338-11-P